ENVIRONMENTAL PROTECTION AGENCY

40 CFR Parts 158 and 171

[EPA-HQ-OPP-2010-0670 and EPA-HQ-OPP-2011-0049; FRL-9341-1]

RIN 2070-AJ80 and 2070-AJ77

Notification of Submission to the Secretary of Agriculture of Two Draft Regulatory Documents Under FIFRA

AGENCY: Environmental Protection Agency (EPA).

ACTION: Notification of submission to the Secretary of Agriculture.

SUMMARY: This document notifies the public as required by section 25(a) of the Federal Insecticide, Fungicide, and Rodenticide Act (FIFRA) that the EPA has forwarded to the Secretary of the United States Department of Agriculture (USDA) two draft final rules. The first final rule is entitled: “Pesticides; Microbial Pesticide Definitions and Applicability; Clarification and Availability of Test Guideline”; and the second is entitled: “Synchronizing the Expiration Dates of the Pesticide Applicator Certificate with the Underlying State or Tribal Certificate Final Rule”. The draft regulatory documents are not available to the public until after they have been signed and made available by EPA.

ADDRESSES: EPA has established a docket for the corresponding proposed rules under docket identification (ID) numbers EPA-HQ-OPP-2010-0670 and EPA-HQ-OPP-2011-0049. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Rose Kyprianou, Field and External Affairs Division (7506P), Office of Pesticide Programs, Environmental Protection Agency, 1200 Pennsylvania Ave. NW., Washington, DC 20460-0001; telephone number: 703 305-5354; email address: kyprianou.rose@epa.gov.

SUPPLEMENTARY INFORMATION:

I. What action is EPA taking?

Section 25(a)(2)(B) of FIFRA, 7 U.S.C. 136w, requires EPA to provide the Secretary of USDA with a copy of any draft final rule at least 30 days before signing it in final form for publication in the Federal Register. The draft final rules are not available to the public until after they have been signed by EPA. If the Secretary of USDA comments in writing regarding the draft final rules within 15 days after receiving them, EPA shall include the comments of the Secretary of USDA, if requested by the Secretary of USDA, and EPA's response to those comments with the final rule that publishes in the Federal Register. If the Secretary of USDA does not comment in writing within 15 days after receiving the draft final rules, the EPA Administrator may sign the final rules for publication in the Federal Register any time after the 15-day period.

II. Do any statutory and Executive Order reviews apply to this notification?

No. This document is merely a notification of submissions to the Secretary of USDA. As such, none of the regulatory assessment requirements apply to this document.

List of Subjects in 40 CFR Parts 158 and 171

Environmental protection, Administrative practice and procedure; Agricultural commodities, Indian—lands, Intergovernmental relations, Pesticides and pests, Reporting and recordkeeping requirements.

Dated: March 12, 2012.
Steven Bradbury,
Director, Office of Pesticide Programs.

[FR Doc. 2012-6929 Filed 3-22-12; 8:45 am]

BILLING CODE 6560-50-P